DEPARTMENT OF COMMERCE

National Oceanic and Atmospheric Administration

[I.D. 080105C]

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene a meeting of its Ecosystem Scientific and Statistical Committee (SSC) in New Orleans, LA.

DATES: The meeting will be held Friday, August 19, 2005, from 10 a.m. to 4 p.m.

ADDRESSES: The meeting will be held at the Ramada Inn & Suites, New Orleans Airport, 110 James Drive East, Saint Rose, LA 70087.

Council address: Gulf of Mexico Fishery Management Council, 2203 North Lois Avenue, Suite 1100, Tampa, FL 33607.

FOR FURTHER INFORMATION CONTACT: Steven Atran, Population Dynamics Statistician, Gulf of Mexico Fishery Management Council; telephone: (813) 348-1630.

SUPPLEMENTARY INFORMATION: The Council will convene its Ecosystem SSC in New Orleans, LA on August 19, 2005. The SSC will: (1) review the results of a series of facilitated workshops to solicit public input on ecosystem based fisheries management, (2) review the National Marine Fisheries Service's positions on approaches to ecosystem based fisheries management, and (3) establish preliminary tasks toward producing a fisheries ecosystem plan.

Copies of the agenda and other related materials can be obtained by calling (813) 348-1630. Although other non-emergency issues not on the agendas may come before the SSC for discussion, in accordance with the Magnuson-Stevens Fishery Conservation and Management Act (M-SFCMA), those issues may not be the subject of formal action during these meetings. Actions of the SSC will be restricted to those issues specifically identified in the agendas and any issues arising after publication of this notice that require emergency action under Section 305(c) of the M-SFCMA, provided the public has been notified of the Council's intent to take action to address the emergency.

Special Accommodations

The meetings are open to the public and physically accessible to people with disabilities. Requests for sign language interpretation or other auxiliary aids should be directed to Dawn Aring at the Council office (see ADDRESSES) by August 12, 2005.

Dated: August 3, 2005.
Emily Menashes,
Acting Director, Office of Sustainable Fisheries, National Marine Fisheries Service.

[FR Doc. E5-4244 Filed 8-5-05; 8:45 am]

BILLING CODE 3510-22-S